DEPARTMENT OF HOUSING AND URBAN DEVELOPMENT

[Docket No. FR-4996-N-01]

HUD Regional Offices: Changes in Titles and Change in Title to Certain Field Offices

AGENCY: Office of the Assistant Secretary for Administration, HUD.

ACTION: Notice.

SUMMARY: This notice advises the public of changes that HUD has made to the titles of its ten Regional Offices, and to certain field offices. No changes in the functions or responsibilities of these offices have been made by HUD.

EFFECTIVE DATE: April 15, 2005.

FOR FURTHER INFORMATION CONTACT: Bill Rice, Office of Administration, Department of Housing and Urban Development, Room 2170, 451 Seventh Street, SW., Washington, DC 20410-3000, (202) 708-3452. (This is not a toll free number.) Persons with hearing or speech impairments may access this number through TTY by calling the toll-free Federal Information Relay Services at (800) 877-8339.

SUPPLEMENTARY INFORMATION: In November 1993, HUD implemented a reorganization of its field structure that, among other things, changed the designation of HUD's ten Regional Offices from designation by Roman numeral to designation by geographic area, such as New England, New York/New Jersey, Mid-Atlantic, Southeast, etc.

This notice published in today's Federal Register advises the public that HUD is returning to Roman numeral designation for its ten Regional Offices. This notice also advises that each HUD “Area Office” that is the assigned location for a Regional Director will be renamed “Regional Office.” Any office that is the assigned location of a Field Office Director, and also referred to as an Area Office, will now be referred to as a Field Office. HUD's Community Service Centers will also be referred to as Field Offices. There will no longer be offices referred to as Area Offices or Community Service Centers. HUD has not made changes to the functions or responsibilities of the offices that are the subject of this notice.

The appendix that accompanies this notice reflects the new titles for HUD's Regional Offices.

Dated: May 9, 2005.
Darlene F. Williams,
General Deputy Assistant Secretary for Administration.

Change in Titles to HUD's Regional Offices
Former title | New title
New England | Region I
Boston Area Office | Boston Regional Office
Bangor Community Service Center | Bangor Field Office
Burlington Community Service Center | Burlington Field Office
Hartford Area Office | Hartford Field Office
Manchester Community Service Center | Manchester Field Office
Providence Community Service Center | Providence Field Office
New York/New Jersey | Region II
New York / New Jersey Area Office | New York Regional Office
Albany Community Service Center | Albany Field Office
Buffalo Area Office | Buffalo Field Office
Camden Community Service Center | Camden Field Office
Newark Area Office | Newark Field Office
Mid-Atlantic | Region III
Philadelphia Area Office | Philadelphia Regional Office
Baltimore Area Office | Baltimore Field Office
Charleston Area Office | Charleston Field Office
Pittsburgh Community Service Center | Pittsburgh Field Office
Richmond Community Service Center | Richmond Field Office
Washington DC Area Office | Washington, DC Field Office
Wilmington Community Service Center | Wilmington Field Office
Southeast | Region IV
Atlanta Area Office | Atlanta Regional Office
Birmingham Area Office | Birmingham Field Office
Miami Area Office | Miami Field Office
Columbia Area Office | Columbia Field Office
Greensboro Area Office | Greensboro Field Office
Jackson Area Office | Jackson Field Office
Jacksonville Area Office | Jacksonville Field Office
Louisville Area Office | Louisville Field Office
Knoxville Area Office | Knoxville Field Office
Memphis Community Service Center | Memphis Field Office
Nashville Community Service Center | Nashville Field Office
Orlando Community Service Center | Orlando Field Office
Caribbean Area Office | San Juan Field Office
Tampa Community Service Center | Tampa Field Office
Midwest | Region V
Chicago Area Office | Chicago Regional Office
Cincinnati Community Service Center | Cincinnati Field Office
Cleveland Community Service Center | Cleveland Field Office
Columbus Area Office | Columbus Field Office
Detroit Area Office | Detroit Field Office
Grand Rapids Community Service Center | Grand Rapids Field Office
Indiana Area Office | Indianapolis Field Office
Milwaukee Area Office | Milwaukee Field Office
Flint Community Service Center | Flint Field Office
Minneapolis Area Office | Minneapolis Field Office
Springfield Community Service Center | Springfield Field Office
Southwest | Region VI
Forth Worth Area Office | Fort Worth Regional Office
Albuquerque Area Office | Albuquerque Field Office
Dallas Community Service Center | Dallas Field Office
Houston Community Service Center | Houston Field Office
Little Rock Area Office | Little Rock Field Office
Lubbock Community Service Center | Lubbock Field Office
New Orleans Area Office | New Orleans Field Office
Oklahoma City Area Office | Oklahoma City Field Office
San Antonio Area Office | San Antonio Field Office
Shreveport Community Service Center | Shreveport Field Office
Tulsa Community Service Center | Tulsa Field Office
Great Plains | Region VII
KS/MO Area Office | Kansas City Regional Office
Des Moines Community Service Center | Des Moines Field Office
Omaha Area Office | Omaha Field Office
St. Louis Area Office | St. Louis Field Office
Rocky Mountains | Region VIII
Denver Area Office | Denver Regional Office
Casper Community Service Center | Casper Field Office
Fargo Community Service Center | Fargo Field Office
Helena Community Service Center | Helena Field Office
Salt Lake City Community Service Center | Salt Lake City Field Office
Sioux Falls Community Service Center | Sioux Falls Field Office
Pacific/Hawaii | Region IX
San Francisco Area Office | San Francisco Regional Office
Fresno Community Service Center | Fresno Field Office
Hawaii Community Service Center | Honolulu Field Office
Los Angeles Area Office | Los Angeles Field Office
Phoenix Community Service Center | Phoenix Field Office
Reno Community Service Center | Reno Field Office
Sacramento Community Service Center | Sacramento Field Office
San Diego Community Service Center | San Diego Field Office
Santa Ana Community Service Center | Santa Ana Field Office
Las Vegas Community Service Center | Las Vegas Field Office
Tucson Community Service Center | Tucson Field Office
Northwest/Alaska | Region X
Seattle Area Office | Seattle Regional Office
Anchorage Community Service Center | Anchorage Field Office
Boise Community Service Center | Boise Field Office
Portland Community Service Center | Portland Field Office
Spokane Community Service Center | Spokane Field Office

[FR Doc. E5-2409 Filed 5-13-05; 8:45 am]

BILLING CODE 4210-01-P